DEPARTMENT OF INTERIOR

Geological Survey

Federal Geographic Data Committee (FGDC); Public Review of the National Hydrographic Data Content Standard for Coastal and Inland Waterways

ACTION: Notice; request for comments.

SUMMARY: The FGDC is conducting a pubic review of the National Hydrographic Data Content Standard for Coastal and Inland Waterways (hereafter called the Hydrographic Standard). The purpose of this public review is to provide software vendors and data users and producers an opportunity to comment on this standard in order to ensure that it meets their needs.

Participants in the public review are encouraged to provide comments that address specific issues/changes/additions that may result in revisions to the draft Hydrographic Standard. After formal endorsement of the standard by the FGDC, the standard and analysis of the comments will be made available to the public.

DATES: Comments must be received on or before August 31, 2000.

ADDRESSES: The draft standard may be downloaded via Internet address http://www.fgdc.gov/standards/status/sub5_5.html.

Request for printed copies of the standard should be addressed to “Hydrographic Data Content Standard,” FGDC Secretariat, U.S. Geological Survey, 590 National Center, 12201 Sunrise Valley Drive, Reston, Virginia 20192 or facsimile 703-648-5755 or Internet at gdc@usgs.gov.

Reviewer's comments may be sent to FGDC via Internet mail to gdc-hydro@www.fgdc.gov. Reviewer's comments may also be sent to the FGDC Secretariat at the above address. Please send one hardcopy version of the comments and a softcopy version on 3.5-inch diskette in WordPerfect, Microsoft Word, or Rich Text Format. Reviewers are strongly urged to use the template for sending comments that may be downloaded from Internet address http://www.fgdc.gov/standards/directives/dir2d.html.

SUPPLEMENTARY INFORMATION:

Introduction

Geospatial hydrographic data for waterways, shorelines, coastlines, etc. that supports transportation applications has been specified as one of the key framework information layers for the National Spatial Data Infrastructure (NSDI). The objective of the Hydrographic Standard project is to develop a nationally focused hydrographic data content standard for spatial data that supports safety of navigation. When complete, this standard will provide a consistent catalog of terms and definitions (semantics) to ensure uniform interpretation of information across a variety of organizations that develop and use hydrographic feature data and applications. This standard is based upon a well known logical data model for geospatial data of features, attributes, and domain values that is consistent with the spatial Data Transfer Standard/Federal Information Processing Standard (SDTS/FIPS 173 part 2).

Scope

The scope of this Hydrographic Standard project first focused on developing a catalog of hydrographic feature terms and definitions pertaining to navigation of coastal and inland waterways. In that the guidance from the NSDI concentrated on transportation/navigation, the team limited the scope to information relating to charting and electronic chart display applications. This standard will not address data distribution formats, extraction criteria, or accuracy reporting methods.

Justification/Benefits

There has never been a national data content standard for hydrographic data that support navigation applications; yet there has been interest from federal agencies, private industry, and the public for a uniform presentation of this type information for some time. A data content standard that supports navigation applications will ensure effective use of geospatial data across different agencies, organizations, and other users.

Standards Development Process

This standard was developed under the guidance and procedures specified by the Federal Geographic Data Committee (FGDC) under the authority of the Bathymetric Subcommittee. The FGDC announced the initiation of this Hydrographic Standard project in the Federal Register approximately a year ago and issued a call for any interested party to participate on the project development team. Composed of experts from the National Oceanographic and Atmospheric Administration (NOAA), National Imagery and Mapping Agency (NIMA), the U.S. Army Corps of Engineers, the U.S. Coast Guard, several pilot associations, and private industry representatives, the project team has been working together for the past year to develop this Hydrographic Standard. In addition to the expertise brought to this project team from the various organizations represented, key documents were used in the development of this standard. These are cited as references below.

The first step after the formation of a Hydrographic Standard project team was to agree upon the scope of this Hydrographic Standard. The project team then reviewed key documents that consisted of adopted standards and systems that had developed and used hydrographic feature data. The next step for the project team was to develop a master list of candidate features extracted from the following standards documents:

• International Hydrographic Organization's S57 (IHO S-57) Appendix A, Object Catalog for Digital Hydrographic Data, an intergovernmental consultative and technical organization working to support the safety of navigation and the protection of the marine environment.

• North Atlantic Treaty Organization's (NATO) Digital Geographic Information Exchange Standard (DIGEST) Part 4, Feature Attribute Coding Catalog (FACC), a comprehensive coding scheme for features and their attributes. This allows for joint naval operations between sovereign countries and requires naval personnel to have familiarity amongst traditional S-57 and FACC.

• Tri-Service Spatial Data Standard (TSSDS Release 1.8), which is primarily used for civil and military installation mapping and facility management.

• U.S. Army Corps of Engineers (USACE) Regional Engineering and Environmental Geographic Information System (REEGIS) project's data dictionary for inland waterways and primarily used by the USACE for engineering, navigation and flood control structures along the Mississippi River.

Next, the project team reviewed the master feature list and eliminated those clearly outside of the agreed to scope. A detailed comparison of feature terms and definitions extracted from the aforementioned standards was conducted. From this effort, the team was able to derive a standard feature term and definition for each feature. As a byproduct of this activity, a matrix was developed, which provides a mapping to related terms, or features, contained in each or the source standards. These matrices are included as appendices.

The project team has extracted all the attributes derived from the aforementioned standards and culled this list of attributes down to a subset of core attributes to include in the hydrographic standard. The project team created a domain list for each “category” of feature to facilitate the cross-reference. Other attributes have been grouped into logical collections applicable to individual features to ease implementation. Finally, a draft Hydrographic Standard document was generated to include the features, attributes, and domain terms and definitions lists, and additional descriptive documentation as specified by the FGDC directives on creating an NSDI standard.

Target Authorization Body

The Bathymetric Subcommittee originally proposed the development of this Hydrographic Standard as an FGDC standard. The Bathymetric Subcommittee and the Standards Working Group of the FGDC will pursue a joint FGDC and American National Standards Institute (ANSI) adoption of this standard. This joint approach will require the development of an ANSI standard proposal and potentially a joint ANSI and FGDC public review. The Bathymetric Subcommittee will consider (at a later date) promoting parts of this standard (e.g., inland waterways information) that are not currently part of the S-57 standard to International Hydrographic Organization for inclusion in their standard.

Conclusion

This Hydrographic Data Content Standard for Coastal and Inland Waterways will facilitate semantic consistency when capturing geospatial hydrographic information in a GIS or CADD database. This standard will support the exchange of spatial data between different GIS/CADD software packages. The standard will also facilitate effective exchange of geospatial data across multiple agencies, organizations and other users. This standard will provide for consistency of semantics contained in spatial hydrographic data that enable the development of consistent military and commercial navigation applications for that query, analyze this information and interpreted this information for display of electronic charts. Cost savings associated with reducing the translating geospatial hydrographic information and building navigation applications should also be realized.

Maintenance

The U.S. Department of Commerce, National Oceanic and Atmospheric Administration (NOAA), National Ocean Service (NOS), NOAA Coastal Services Center will maintain the National Hydrographic Data Content Standard for Coastal and Inland Waterways for the Federal Geographic Data Committee. Address general questions concerning the content of this standard to David Stein, Secretary, FGDC Bathymetric Subcommittee at NOAA Coastal Services Center; 2234 South Hobson Avenue, Charleston, SC 29405-2413 or by E-mail: Dave.Stein@noaa.gov.

Dated: May 8, 2000.
Richard E. Witmer,
Chief, National Mapping Division.

[FR Doc. 00-12333 Filed 5-16-00; 8:45 am]

BILLING CODE 4310-Y7-M